DEPARTMENT OF ENERGY

Federal Energy Regulatory Commission

Notice of Proposed Restricted Service List for a Programmatic Agreement for Managing Properties Included in or Eligible for Inclusion in the National Register of Historic Places

December 8, 2010.

Uniontown Hydro, and Newburgh Hydro, LLC | Project No. 12958-001 and Project No. 12962-001—Kentucky and Indiana Uniontown Hydroelectric Project and Newburgh Hydroelectric Project.

Rule 2010 of the Federal Energy Regulatory Commission's (Commission) Rules of Practice and Procedure, 18 CFR section 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Kentucky State Historic Preservation Officer (hereinafter, SHPO), the Indiana SHPO, and the Advisory Council on Historic Preservation (hereinafter, Advisory Council) pursuant to the Advisory Council's regulations, 36 CFR part 800, implementing section 106 of the National Historic Preservation Act, as amended, (16 U.S.C. section 470 f), to prepare a Programmatic Agreement for managing properties included in, or eligible for inclusion in, the National Register of Historic Places at the Uniontown Hydroelectric Project and the Newburgh Hydroelectric Project.

The Programmatic Agreement, when executed by the Commission, the Kentucky SHPO, the Indiana SHPO, and the Advisory Council, would satisfy the Commission's section 106 responsibilities for all individual undertakings carried out in accordance with the license until the license expires or is terminated (36 CFR section 800.13[e]). The Commission's responsibilities pursuant to section 106 for the project would be fulfilled through the Programmatic Agreement, which the Commission staff proposes to draft in consultation with certain parties listed below.

Uniontown Hydro, LLC and Newburgh Hydro, LLC, as the applicants for Project Nos. 12958-001 and 12962-001, respectively, are invited to participate in consultations to develop the Programmatic Agreement and to sign as concurring parties to the Programmatic Agreement. For purposes of commenting on the Programmatic Agreement, we propose to restrict the service list for Project Nos. 12958-001 and 12962-001 as follows:

John Fowler, Executive Director, Advisory Council on Historic Preservation, The Old Post Office Building, Suite 803, 1100 Pennsylvania Avenue, NW., Washington, DC 20004.

Jill A. McNutt, Kentucky Heritage Council, 300 Washington Street, Frankfort, KY 40601.

Phillip Johnson, Kentucky Heritage Council, 300 Washington Street, Frankfort, KY 40601.

Cathy Draeger-Williams, Indiana Division of Historic Preservation & Archaeology, 402 W. Washington Street, W274, Indianapolis, IN 46204.

Chad Slider, Indiana Division of Historic Preservation & Archaeology, 402 W. Washington Street, W274, Indianapolis, IN 46204.

Chairman Ron Sparkman, Shawnee Tribe P.O. Box 189, Miami, OK 74355

Governor Scott Miller, Absentee Shawnee Tribe, 2025 S. Gordon Cooper Drive, Shawnee, OK 74801.

Chief Thomas E. Gamble, Miami Tribe of Oklahoma, P.O. Box 1326, Miami, OK 74355.

Chief John P. Froman, Peoria Tribe of Indians of Oklahoma, P.O. Box 1527, Miami, OK 74355.

Chief Michell Hicks, The Eastern Band of Cherokee Indians, P.O. Box 455, Cherokee, NC 28719.

Governor Bill Anoatubby, Chickasaw Nation, P.O. Box 1548. Ada, OK 74821.

Principal Chief Chad Smith, Cherokee Nation of Oklahoma, P.O. Box 948, Tahlequah, OK 74465.

Dr. James Kardatzke, Bureau of Indian Affairs, 545 Marriott Drive, Suite 700, Nashville, TN 37214.

Chief Glenna J. Wallace, Eastern Shawnee Tribe of Oklahoma, P.O. Box 350, Seneca, MO 64865.

Ken Lamkin or Representative, U.S. Army Corps of Engineers, P.O. Box 59, Louisville, KY 40201-0059.

Erik Steimle or Representative, Symbiotics, 2950 SE Stark Street, Suite 110, Portland, OR 97214.

Any person on the official service list for the above-captioned proceedings may request inclusion on the restricted service list, or may request that a restricted service list not be established, by filing a motion to that effect within 15 days of this notice date. An original plus seven copies of any such motion must be filed with the Secretary of the Commission (888 First Street, NE., Washington, DC 20426) and must be served on each person whose name appears on the official service list. If no such motions are filed, the restricted service list will be effective at the end of the 15-day period. Otherwise, a further notice will be issued ruling on the motion.

Kimberly D. Bose,
Secretary.

[FR Doc. 2010-31419 Filed 12-14-10; 8:45 am]

BILLING CODE 6717-01-P